DEPARTMENT OF TRANSPORTATION

Federal Aviation Administration

14 CFR Part 39

[Docket No. 2004-NM-36-AD; Amendment 39-14788; AD 2006-21-04]

RIN 2120-AA64

Airworthiness Directives; Empresa Brasileira de Aeronautica S.A. (EMBRAER) Model EMB-135BJ and EMB-145XR Airplanes

AGENCY: Federal Aviation Administration, DOT.

ACTION: Final rule.

SUMMARY: This amendment adopts a new airworthiness directive (AD), applicable to certain Empresa Brasileira de Aeronautica S.A. (EMBRAER) Model EMB-135BJ and Model EMB-145XR airplanes. This AD requires, for all airplanes, installation of an additional indication device to the clear-ice indication system. For certain airplanes, this AD requires replacing the existing clear-ice indication lamp with a new, improved lamp. For certain other airplanes, this AD also requires modifying certain electrical connections to add an indication device to the clear-ice indication system, removing a certain placard, and re-activating the clear-ice additional indicator lamp. The actions specified by this AD are intended to prevent undetected build-up of clear ice on the wing surfaces, which could lead to reduced controllability of the airplane. This action is intended to address the identified unsafe condition.

DATES: Effective November 17, 2006.

The incorporation by reference of certain publications listed in the regulations is approved by the Director of the Federal Register as of November 17, 2006.

ADDRESSES: The service information referenced in this AD may be obtained from Empresa Brasileira de Aeronautica S.A. (EMBRAER), P.O. Box 343—CEP 12.225, Sao Jose dos Campos—SP, Brazil. This information may be examined at the Federal Aviation Administration (FAA), Transport Airplane Directorate, Rules Docket, 1601 Lind Avenue, SW., Renton, Washington.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION: A proposal to amend part 39 of the Federal Aviation Regulations (14 CFR part 39) to include an airworthiness directive (AD) that is applicable to certain Empresa Brasileira de Aeronautica S.A. (EMBRAER) Model EMB-135BJ and Model EMB-145XR airplanes was published as a supplemental notice of proposed rulemaking (NPRM) in the Federal Register on May 26, 2006 (71 FR 30335). That action proposed to require, for all airplanes, installation of an additional indication device to the clear-ice indication system. For certain airplanes, that action also proposed to require replacing the existing clear-ice indication lamp with a new, improved lamp. For certain other airplanes, that action also proposed to require modifying certain electrical connections to add an indication device to the clear-ice indication system, removing a certain placard, and re-activating the clear-ice additional indicator lamp. That action also proposed to add airplanes to the applicability of an earlier supplemental NPRM.

Comments

Interested persons have been afforded an opportunity to participate in the making of this amendment. Due consideration has been given to the comments received.

Request To Withdraw the Second Supplemental NPRM

ExpressJet requests that we withdraw the second supplemental NPRM. ExpressJet states that it is the only U.S. operator of these airplanes, and that it has accomplished all the actions specified in the service bulletins. ExpressJet also explains that any future airplanes of this type will be equipped in production, so there is no reason to include this type of airplane in the final rule.

We do not agree with ExpressJet's request to withdraw the second supplemental NPRM. EMBRAER has advised us that not all of the affected airplanes worldwide have been modified; therefore, it is possible that an unmodified airplane could be imported to the U.S. in the future. Even if the current U.S.-registered fleet is in compliance with all of the proposed requirements, issuing the AD will ensure that the imported airplane is modified before it is permitted to operate in the U.S. We have not changed the AD in this regard.

Conclusion

We have carefully reviewed the available data, including the comment received, and determined that air safety and the public interest require adopting the AD as proposed.

Cost Impact

The FAA estimates that about 49 airplanes of U.S. registry are affected by this AD. The average labor rate is $80 per work hour.

For 41 Model EMB-145XR airplanes, it will take 16 work hours per airplane to accomplish the actions. Required parts cost between $242 and $817 per airplane. Based on these figures, the cost impact of this AD on U.S. operators of Model EMB-145XR airplanes is estimated to be between $62,402 and $85,977, or between $1,522 and $2,097 per airplane.

For 8 Model EMB-135BJ airplanes, it will take 16 work hours per airplane to accomplish the actions. Required parts will cost between $240 and $820 per airplane. Based on these figures, the cost impact of this AD on U.S. operators of Model EMB-135BJ airplanes is estimated to be between $12,160 and $16,800, or between $1,520 and $2,100 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2006-21-04 Empresa Brasileira De Aeronautica S.A. (EMBRAER): Amendment 39-14788. Docket 2004-NM-36-AD.

Applicability: Model EMB-145XR airplanes, as listed in EMBRAER Service Bulletin 145-30-0035, Revision 03, dated March 8, 2005; and Model EMB-135BJ airplanes, as listed in EMBRAER Service Bulletin 145LEG-30-0002, Revision 01, dated January 4, 2005; certificated in any category.

Compliance: Required as indicated, unless accomplished previously.

To prevent undetected build-up of clear ice on the wing surfaces, which could lead to reduced controllability of the airplane, accomplish the following:

Modification of Clear-Ice Indication System

(a) For Model EMB-145XR airplanes: Within 24 months or 5,000 flight hours after the effective date of this AD, whichever comes first, perform the actions specified in paragraphs (a)(1) and (a)(2) of this AD, as applicable, in accordance with the Accomplishment Instructions of EMBRAER Service Bulletin 145-30-0035, Revision 03, dated March 8, 2005.

(1) Install complete electrical connections and provisions to add an additional indication device to the clear-ice indication system, as specified in Part I of the Accomplishment Instructions of the service bulletin.

(2) Replace the existing clear-ice indication lamp with a new lamp having a new part number, as specified in Part II of the Accomplishment Instructions of the service bulletin.

(b) For Model EMB-135BJ airplanes: Within 24 months or 5,000 flight hours after the effective date of this AD, whichever comes first, perform the actions in paragraphs (b)(1), (b)(2), (b)(3), and (b)(4) of this AD, as applicable, in accordance with the Accomplishment Instructions of EMBRAER Service Bulletin 145LEG-30-0002, Revision 01, dated January 4, 2005.

(1) Install complete electrical connections and provisions to add an additional indication device to the clear-ice indication system, as specified in Part I of the Accomplishment Instructions of the service bulletin.

(2) Modify the electrical connections of factory-provisioned airplanes to add an additional indication device to the clear-ice indication system, as specified in Part II of the Accomplishment Instructions of the service bulletin.

(3) Remove the “Clear-Ice Inoperative” placard and reactivate the clear-ice additional indicator lamp, as specified in Part III of the Accomplishment Instructions of the service bulletin.

(4) Replace the existing clear-ice indicator lamp with a new, improved lamp having a new part number, as specified in Part IV or V of the Accomplishment Instructions of the service bulletin.

Actions Accomplished Per Previous Issues of Service Bulletins

(c) Actions accomplished before the effective date of this AD in accordance with EMBRAER Service Bulletin 145-30-0035, Revision 02, dated January 6, 2005, are considered acceptable for compliance with the corresponding actions specified in this AD.

Alternative Methods of Compliance

(d)(1) In accordance with 14 CFR 39.19, the Manager, International Branch, ANM-116, FAA, Transport Airplane Directorate, is authorized to approve alternative methods of compliance for this AD.

(2) Before using any AMOC approved in accordance with § 39.19 on any airplane to which the AMOC applies, notify the appropriate principal inspector in the FAA Flight Standards Certificate Holding District Office.

Note 1: The subject of this AD is addressed in Brazilian airworthiness directive 2004-01-01, effective January 27, 2004.

Incorporation by Reference

(e) Unless otherwise specified in this AD, the actions must be done in accordance with EMBRAER Service Bulletin 145-30-0035, Revision 03, dated March 8, 2005; or EMBRAER Service Bulletin 145LEG-30-0002, Revision 01, dated January 4, 2005; as applicable. This incorporation by reference was approved by the Director of the Federal Register in accordance with 5 U.S.C. 552(a) and 1 CFR part 51. To get copies of this service information, contact Empresa Brasileira de Aeronautica S.A. (EMBRAER), P.O. Box 343—CEP 12.225, Sao Jose dos Campos—SP, Brazil. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Effective Date

(f) This amendment becomes effective on November 17, 2006.

Issued in Renton, Washington, on October 4, 2006.
Kalene C. Yanamura,
Acting Manager, Transport Airplane Directorate, Aircraft Certification Service.

[FR Doc. E6-16895 Filed 10-12-06; 8:45 am]

BILLING CODE 4910-13-P